DEPARTMENT OF TRANSPORTATION

Federal Aviation Administration

14 CFR Part 71

[Docket No. FAA-2025-1671; Airspace Docket No. 25-AEA-11]

RIN 2120-AA66

Amendment of Class E4 Airspace Over Elmira, NY

AGENCY: Federal Aviation Administration (FAA), DOT.

ACTION: Final rule; correction.

SUMMARY: The FAA is correcting a final rule that appeared in the Federal Register on August 29, 2025. The final rule amended Class E4 airspace at Elmira/Corning Regional Airport, Elmira, NY. This action corrects the airspace docket number from 25-ANE-11 to 25-AEA-11 in the header for the final rule.

DATES: The effective date of the final rule published in the Federal Register on August 29, 2025 remains 0901 UTC, November 27, 2025. The Director of the Federal Register approves this incorporation by reference action under 1 CFR part 51, subject to the annual revision of FAA Order JO 7400.11 and publication of conforming amendments.

FOR FURTHER INFORMATION CONTACT: Marc Ellerbee, Operations Support Group, Eastern Service Center, Federal Aviation Administration, 1701 Columbia Ave., College Park, GA 30337; Telephone (404) 305-5589.

SUPPLEMENTARY INFORMATION:

History

The FAA published a final rule in the Federal Register (90 FR 42133; August 29, 2025) for Docket No. FAA-2025-1671, amending Class E airspace at Elmira, NY. After publication of the final rule, the FAA discovered that the airspace docket number was erroneously listed as 25-ANE-11. The correct airspace docket number is 25-AEA-11. Accordingly, the following corrections are effective November 27, 2025.

Correction to the Final Rule

In FR Doc. 2025-16654, 90 FR 42133, August 29, 2025, on page 42133, in the first column, immediately under “14 CFR part 71” within the document headings in brackets and bold print, replace “25-ANE-11” with “25-AEA-11”.

Issued in College Park, Georgia, on September 22, 2025.
Patrick Young,
Manager, Airspace & Procedures Team North, Eastern Service Center, Air Traffic Organization.

[FR Doc. 2025-18525 Filed 9-23-25; 8:45 am]

BILLING CODE 4910-13-P